DEPARTMENT OF COMMERCE

International Trade Administration

[C-570-074]

Common Alloy Aluminum Sheet From the People's Republic of China: Postponement of Preliminary Determination in the Countervailing Duty Investigation

AGENCY: Enforcement and Compliance, International Trade Administration, Department of Commerce.

DATES: Applicable January 19, 2018.

FOR FURTHER INFORMATION CONTACT: Yasmin Bordas at (202) 482-3813, Lana Nigro at (202) 482-1779, and John Anwesen at (202) 482-0131, AD/CVD Operations, Enforcement and Compliance, International Trade Administration, U.S. Department of Commerce, 1401 Constitution Avenue NW, Washington, DC 20230.

SUPPLEMENTARY INFORMATION:

Background

On November 28, 2017, the Department of Commerce (Commerce) self-initiated a countervailing duty (CVD) investigation of common alloy aluminum sheet (common alloy sheet) from the People's Republic of China.¹ Currently, the preliminary determination is due no later than February 1, 2018.

¹ See Common Alloy Aluminum Sheet from the People's Republic of China: Initiation of Less-Than-Fair-Value and Countervailing Duty Investigations, 82 FR 57214 (December 4, 2017) (Initiation Notice).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, and determines that the investigation is extraordinarily complicated, and that additional time is necessary to make a preliminary determination.

As described in the Initiation Notice, Commerce self-initiated this investigation under section 702(a) of the Act on the basis of information available to it pertaining to 26 subsidy programs.² On December 20, 2017, Commerce selected mandatory respondents to this CVD investigation and issued countervailing duty questionnaires.³ On January 8, 2018, we received responses to the affiliation section of the CVD questionnaire from mandatory respondents Henan Mingtai Aluminum Industrial Co. Ltd. (Henan Mingtai); Yong Jie New Material Co. Ltd. (Yong Jie New Material); and Zhengzhou Mingtai Industry Co Ltd. (Zhengzhou Mingtai).⁴ In their responses, Henan Mingtai, Yong Jie New Material, and Zhengzhou Mingtai stated that they intend to provide complete questionnaire responses on behalf of themselves and multiple cross-owned entities.⁵ Given the large number of subsidy programs that Commerce is investigating in this proceeding, many of which involve complex methodological issues, and the large number of mandatory respondents and their cross-owned entities that are participating in this investigation, Commerce determines that this investigation is extraordinarily complicated and additional time is necessary to issue a preliminary determination.

² See Initiation Notice, and accompanying Supporting Memorandum for the Initiation of Countervailing Duty Investigation of Common Alloy Aluminum Sheet from the People's Republic of China (CVD Initiation Memo), dated November 28, 2017.

³ See Memorandum, re: Countervailing Duty Investigation of Common Alloy Aluminum Sheet from the People's Republic of China: Respondent Selection, dated December 20, 2017. See also Commerce Letter, “Countervailing Duty Investigation of Common Alloy Aluminum Sheet from the People's Republic of China: Countervailing Duty Questionnaire,” dated December 20, 2017.

⁴ See Letter from Henan Mingtai and Zhengzhou Mingtai, “Common Alloy Aluminum Sheet from the People's Republic of China: Mingtai CVD Section III Affiliation Response,” dated January 8, 2018; Letter from Yong Jie New Material, “Common Alloy Aluminum Sheet from the People's Republic of China: Yong Jie New Material CVD Section III Affiliation Response,” dated January 8, 2018.

⁵ Id.

Therefore, in accordance with section 703(c)(1)(B) of the Act, Commerce is postponing the deadline for the preliminary determination to no later than 130 days after the date on which the investigation was initiated, i.e., April 9, 2018.⁶ Pursuant to section 705(a)(1) of the Act and 19 CFR 351.210(b)(1), the deadline for the final determination of this investigation will continue to be 75 days after the date of the preliminary determination.

⁶ Postponing the preliminary determination to 130 days after initiation would place the deadline on Saturday, April 7, 2018. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: January 12, 2018.
Gary Taverman,
Deputy Assistant Secretary for Antidumping and Countervailing Duty Operations, performing the non-exclusive functions and duties of the Assistant Secretary for Enforcement and Compliance.

[FR Doc. 2018-00922 Filed 1-18-18; 8:45 am]

BILLING CODE 3510-DS-P